DEPARTMENT OF THE INTERIOR

National Park Service

[NPS-WASO-NAGPRA-NPS0032322; PPWOCRADN0-PCU00RP14.R50000]

Notice of Intent To Repatriate Cultural Items: California Department of Transportation, Sacramento, CA

AGENCY: National Park Service, Interior.

ACTION: Notice.

SUMMARY: The California Department of Transportation (Caltrans), assisted by the Fowler Museum at the University of California Los Angeles (UCLA) and the San Luis Obispo County Archaeological Society Research and Collections Facility (SLOCAS), in consultation with the appropriate Indian Tribes or Native Hawaiian organizations, has determined that the cultural items listed in this notice meet the definition of unassociated funerary objects. Lineal descendants or representatives of any Indian Tribe or Native Hawaiian organization not identified in this notice that wish to claim these cultural items should submit a written request to the California Department of Transportation. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the California Department of Transportation at the address in this notice by August 23, 2021.

FOR FURTHER INFORMATION CONTACT: Sarah Allred, California Department of Transportation, P.O. Box 942874, MS 27, Sacramento, CA 94271, telephone (916) 956-5506, email Sarah.Allred@dot.ca.gov.

SUPPLEMENTARY INFORMATION: Notice is here given in accordance with the Native American Graves Protection and Repatriation Act (NAGPRA), 25 U.S.C. 3005, of the intent to repatriate cultural items under the control of the California Department of Transportation, Sacramento, CA, and in the physical custody of the Fowler Museum at the University of California Los Angeles, Los Angeles, CA, and the San Luis Obispo County Archaeological Society Research and Collections Facility, San Luis Obispo, CA, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1965 and 1966, a total of 2,589 unassociated funerary objects were removed from CA-SLO-175 in San Luis Obispo County, CA. David Abrams and Nelson Leonard, in association with the University of California Archeological Survey, began excavations when Caltrans sought to widen Highway 1, which would significantly impact this Middle-to-Late Period site. The land was originally owned by the Hearst Corporation. Caltrans purchased the right-of-way in June 1966. All laboratory work was completed at UCLA. Abrams reported on the site and the excavations in the MA thesis he submitted to the University of California Davis.

In March of 1973, UCLA sent the materials collected from CA-SLO-175 to SLOCAS (then located at Cuesta College) for further study and analysis, with the exception of the human remains and associated funerary objects. Subsequently, additional materials associated with the site were found at UCLA, and in May 1978, they were sent to SLOCAS for permanent curation. On July 14, 2017, UCLA sent the human remains and associated funerary objects to SLOCAS to unite the entire collection for an inventory, and to look for missing and loaned artifacts with the assistance of Chumash community members. The 2,589 unassociated funerary objects are composed of 2,463 objects present in the UCLA collections and 126 objects that are currently missing. The 2,463 unassociated funerary objects are seven pieces and one bag of asphaltum, one bag of charcoal, 717 pieces and 77 bags of unmodified faunal bone, one modified shell, 18 pieces of modified bone, 11 awls, 375 flakes, one etched stone, 367 scrapers, 179 cores, 34 choppers, 19 anvils, 160 points, one arrow shaft straightener, seven stone balls, 33 bifaces, 55 shell beads, three stone pendants and one bag of stone beads, one sharpening stone, 54 stone bowls, six burins, nine pieces of debitage, 14 drills, two fishhooks, two pieces of ochre, one quartz crystal, six perforators/picks, 18 pieces and five bags of unmodified shell, 104 knives, 35 grinding stones, 24 hammerstones, 61 manos/pestles, 32 net weights, 10 pecked stones, six tarring pebbles, and five other stone tools. The California Department of Transportation continues to look for the missing 126 unassociated funerary objects, which are two unmodified animal bones, one mortar, two stone bowls, four hammerstones, 13 knives, three manos, one net weight, three pestles, 26 points, three tarring pebbles, two shell beads, 33 stone flakes, two shells with asphaltum, eight cores, three scrapers, one pick, one drill, 11 pieces of charcoal, three modified animal bones, three burins, and one chopper.

Following consultation with representatives of the Santa Ynez Band of Chumash Mission Indians of the Santa Ynez Reservation, California and three non-federally recognized Indian groups—the Barbareño/Ventureño Band of Mission Indians, the yak tityu tityu yak tiłhini/Northern Chumash Tribe, and the Salinan Tribe of San Luis Obispo and Monterey Counties—(hereafter referred to as “The Consulted Tribes and Groups”), the California Department of Transportation has determined that CA-SLO-175 lies within the traditional territory of the Chumash and Salinan people. This determination is based on geographical, ethnographic, historical, oral traditional, and archeological information.

Determinations Made by the California Department of Transportation

Officials of the California Department of Transportation have determined that:

• Pursuant to 25 U.S.C. 3001(3)(B), the 2,589 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Santa Ynez Band of Chumash Mission Indians of the Santa Ynez Reservation, California.

Additional Requestors and Disposition

Lineal descendants or representatives of any Indian Tribe or Native Hawaiian organization not identified in this notice that wish to claim these cultural items should submit a written request with information in support of the claim to Sarah Allred, California Department of Transportation, P.O. Box 942874, MS 27, Sacramento, CA 94271-0001, telephone (916) 956-5506, email Sarah.Allred@dot.ca.gov, by August 23, 2021. After that date, if no additional claimants have come forward, transfer of control of the unassociated funerary objects to the Santa Ynez Band of Chumash Mission Indians of the Santa Ynez Reservation, California may proceed.

The California Department of Transportation is responsible for notifying The Consulted Tribes and Groups that this notice has been published.

Dated: July 14, 2021.
Melanie O'Brien,
Manager, National NAGPRA Program.

[FR Doc. 2021-15565 Filed 7-21-21; 8:45 am]

BILLING CODE 4312-52-P